DEPARTMENT OF COMMERCE

Economic Development Administration

[Docket No. 991215339-2112-04]

RIN 0610-ZA14

National Technical Assistance, Training, Research, and Evaluation—Request for Grant Proposals

AGENCY: Economic Development Administration (EDA), Department of Commerce (DoC).

ACTION: Request for Grant Proposals (RFP) Upon Availability of Funds.

SUMMARY: The role of government is to create conditions in which jobs are created, and in which people can find work. EDA is soliciting proposals to determine the role institutions of higher education can play in local and regional economic development and to conduct a demonstration project of faith-based and community organizations in economic development that will help our partners across the nation (states, regions and communities) create wealth and minimize poverty by promoting a favorable business environment to attract private capital investment and high skill, high wage jobs through world-class capacity building, infrastructure, business assistance, research grants and strategic initiatives. EDA will fulfill this mission by promoting progressive domestic business policies and growth, and by assisting states, communities, and individuals to achieve their highest economic potential.

DATES: Prospective applicants are advised that EDA will conduct a pre-proposal conference on June 5, 2002, at 2:00 p.m. EDT in the Department of Commerce, Herbert C. Hoover Building, 1401 Constitution Avenue, NW., Washington, DC 20230, Room 1414, at which time questions regarding these projects can be answered. Potential applicants are encouraged to provide written questions by June 3, 2002 (see ADDRESSES section below). Prospective applicants unable to attend this pre-proposal conference may participate by teleconference. Teleconference information may be obtained by calling (202) 482-4085 between 8:30-4:30 EDT on June 4, 2002.

Proposals for funding under this program will be accepted through June 19, 2002, at either of the addresses provided below. Proposals received after 4:00 p.m. EDT, on June 19, 2002, will not be considered for funding.

By June 28, 2002, EDA will notify proposers whether or not they will be given further funding consideration. Each successful proponent will be invited to submit an Application for Federal Assistance, OMB Control Number 0610-0094. Projects will be funded no later than September 30, 2002.

ADDRESSES: 1. Proposals may be mailed to:

John J. McNamee, Director, Research and National Technical Assistance Division, Economic Development Administration, Room 7019, U.S. Department of Commerce, 1401 Constitution Avenue, NW., Washington, DC 20230, or

2. Proposals may be hand-delivered to:

John J. McNamee, Director, Research and National Technical Assistance Division, Economic Development Administration, Room 1874, U.S. Department of Commerce, 1401 Constitution Avenue, NW., Washington, DC 20230.

EDA will not accept proposals submitted by FAX.

FOR FURTHER INFORMATION CONTACT: John J. McNamee (202) 482-4085; e-mail: jmcnamee@eda.doc.gov.

SUPPLEMENTARY INFORMATION: In a previous notice published on March 1, 2002 (67 FR 9544) EDA stated that it would publish a separate announcement for its National Technical Assistance, Training, Research, and Evaluation program. Pursuant to that notice, EDA publishes program requirements and solicits applications for this program.

I. Funding Availability

Funding appropriated under Public Law 107-77 is available for the National Technical Assistance, Training, Research, and Evaluation program authorized by the Public Works and Economic Development Act of 1965, as amended (Pub. L. 89-136, 42 U.S.C. 3121, et seq) and as further amended by the Economic Development Administration Reform Act of 1998 (Public Law 105-393). Funds in the amount of $1,601,000 have been appropriated for FY 2002 and shall remain available until expended. Awards will be in the form of grants or cooperative agreements. The average funding level in FY 2001 for National Technical Assistance investments was $108,000, and for Research and Evaluation investments was $43,000. EDA anticipates using only a portion of this funding for the two RFPs described below and has no preset allocation for the division of the $1,601,000 between any areas of special interest.

II. Authority

The authority for the programs listed above is the Public Works and Economic Development Act of 1965, as amended (Pub. L. 89-136, 42 U.S.C. 3121 et seq), and as further amended by Public Law 105-393.

III. Eligibility

The following entities are eligible to receive an award under this notice:

1. Institutions of higher education or a consortium of institutions of higher education;

2. A public or private nonprofit organization or association acting in cooperation with officials of a political subdivision of a state;

3. For-profit organizations and private individuals;

4. An Economic Development District;

5. An Indian tribe;

6. A state;

7. A city, or other political subdivision of a state or a consortium of political subdivisions; or

8. An area described in section 301(a).

A copy of this list is also published at 13 CFR 300.2.

IV. Proposal Format

Each proposal submitted must include:

1. A description of how the researcher(s) intend(s) to carry out the scope of work (not to exceed 10 pages in length);

2. A proposed budget and accompanying explanation;

3. Resumes/qualifications of key staff (not to exceed two pages per individual, with an additional two pages allowed for a single summary description of all organizations/consultants named in the proposal); and

4. A proposed schedule for completion of the project.

V. Evaluation and Selection Process

To apply for an award under this request, an eligible recipient must submit a proposal to EDA during the specified timeframe, at one of the addresses specified above. Proposals that do not meet all items required or that exceed the page limitations of Section IV of this RFP, will be considered nonresponsive, and will not be returned to the proponents. Proposals that meet all the requirements will be evaluated by a review panel comprised of at least three members all of whom will be full-time federal employees. The panel first evaluates the proposals using the general evaluation criteria set forth in 13 CFR 304.1 and 304.2. The panel then evaluates each proposal using the following criteria:

(1) The quality of a proposal's response to the Scope of Work and other requirements described in Section VI below;

(2) The ability of the prospective applicant to successfully carry out the proposed activities; and

(3) Cost to the federal government.

The Assistant Secretary for Economic Development is the Selecting Official. He may or may not select highly rated proposals based on the evaluations provided by the review panel and the criteria set forth in 13 CFR 307.10.

If a proposal is selected, EDA will provide the proponent with an Application for Federal Assistance (OMB Control Number 0610-0094).

VI. Areas of Special Interest

EDA is inviting proposals for National Technical Assistance, Training, Research, and Evaluation as described below.

A. Program: Research and Evaluation—(Pub. L. 89-136, as amended by Pub. L. 105-393, 42 U.S.C. 3147)

(Catalog of Federal Domestic Assistance: 11.312 Research and Evaluation)

• Role of Institutions of Higher Education in Local and Regional Economic Development

EDA invites proposals to examine how communities can harness the wealth of intellectual and technical resources of institutions of higher education in local and regional economic development.

Background: Effective economic development depends on the participation of the major segments of a community. The wealth of intellectual and technical resources of institutions of higher education are often not fully tapped by the local community to promote economic development. Whether large or small, whether universities, four-year colleges, or community colleges, each institution of higher education already serves a unique role. Some promote economic development through research and teaching, providing the pool of educated workers needed for an increasingly technology-based economy. Others respond to the more localized training needs of community businesses. Often they are one of the larger employers in a community. However, some operate almost independently of the local community, while others are an integral part of the local economic development process and planning efforts.

Institutions of higher education can be a powerful force when harnessed effectively to serve the local community. Their highly qualified staffs can help develop a community's vision, provide the research and data for effective long-range local planning, and bring a regional and national perspective to the local economic development efforts. EDA funds a network of University Centers at institutions of higher education. This research is not intended to examine the role of these Centers. Rather, it is intended to explore the contributing role that all universities and colleges can play in more fully meeting the economic development needs of their communities.

Scope of Work: The successful applicant:

• Will identify and analyze the most common areas where universities effectively participate in the economic development of the community as well as barriers that prevent some from doing so.

• Will identify effective university-community partnerships for economic development that could be replicated by other universities and communities facing comparable situations.

• Will select a number of case studies for detailed review and analysis.

• Will suggest innovative approaches not presently used.

• Must prepare a report describing the selected case studies, the methodology used to select them, the lessons learned that would be of value to other universities and communities, and additional innovative practices.

• Conduct up to seven presentations of the study findings, as described in Section VII.B.

Timing: This project must be completed and the final report submitted within one year of approval of the project

B. Program: National Technical Assistance—(Pub. L. 89-136, as amended by Pub. L. 105-393, 42 U.S.C. 3147)

(Catalog of Federal Domestic Assistance: 11.303 Economic Development Technical Assistance)

• Demonstration project of faith-based and community organizations in economic development.

EDA invites proposals to conduct a demonstration of the role of faith-based and community organizations in economic development, that will build on and advances the links between faith-based and community organizations with the broader economic development needs of a community.

Background: The economic revitalization of many communities depends in great measure on the initiative of faith-based and community organizations. Such local organizations are in a position to understand the needs of their communities and to design programs that best address those needs. They have more trust from community members than do governmental agencies or those from outside who lack connections to the community. This trust in turn often leads to a sense of ownership by the community and enhances the likelihood of successful partnerships.

Scope of Work: The successful applicant will propose an actual project that demonstrates an effective role of a faith-based or community organization in local economic development. This project:

• Must be conducted by an existing faith-based or community organization with a demonstrated track record of completing projects effectively.

• Must convene leaders of community-based and faith-based organizations in a roundtable to discuss issues and devise strategies for the role of faith-based and community-based organizations in rural and urban redevelopment.

• Will demonstrate what additional services are needed and how these services can be effectively integrated into a local economic development strategy. Such services may include technical assistance to small business, job training and placement, housing rehabilitation, microenterprise, and business incubators.

• Must maximize private investment that would not otherwise take place without the EDA investment.

• Must, by the nature of the project, have significant potential to generate lessons that can be applied to other communities.

• Must include reasonable job creation or retention as a result of the investment.

• May be an existing project that can be expanded to enhance its success or a new project. If it is a new project, it must be up and running within six months of grant approval.

• Must prepare a report describing the demonstration and lessons learned that would be of value to other faith-based or community organizations, and identify potential applicants that have the experience to have an impact on local communities.

• Conduct up to seven presentations as described in Section VII.B.

Timing: Must either be completed within one year of project approval, or demonstrate that it can continue without additional federal funds.

VII. Other Information and Requirements

EDA regulations at 13 CFR Chapter III are available on the EDA Web site www.doc.gov/eda. The Department of Commerce Pre-Award Notification Requirements for Grants and Cooperative Agreements contained in the Federal Register notice of October 1, 2001 (66 FR 49917) are applicable to this solicitation and can be found on EDA's Web site www.doc.gov/eda. However, please note that the Department of Commerce will not implement the requirements of Executive Order 13202 (66 FR 49921), pursuant to guidance issued by the Office of Management and Budget in light of a court opinion which found that the Executive Order was not legally authorized. See Building and Construction Trades Department v. Allbaugh, 172 F. Supp. 2d 138 (D.D.C. 2001). This decision is currently on appeal. When the case has been finally resolved, the Department will provide further information on implementation of Executive Order 13202. Certain Departmental and other requirements are noted below:

A. Projects are expected to be completed in a timely manner consistent with the nature of the project. The completion date for each project is specified in the RFP.

B. Each award includes a requirement that the successful applicant(s) conduct briefings and/or training workshops for individuals and organizations interested in the project results. The completion dates set forth above are only for completion of the project and submission of the written report. Briefings/workshops will take place no later than one year after submission of the final report. Locations and dates of the briefings/workshops are at EDA's sole discretion. Usually these consist of at least one briefing in Washington, DC, with the other briefings/workshops held in conjunction with one or more of EDA's regional conferences.

C. Ordinarily, the applicant is expected to provide a 50% non-federal share of project costs. However, EDA may reduce or waive the required 50% matching share of the total project costs, provided the applicant demonstrates: (1) The project is not feasible without a reduction or waiver and the project merits a reduction or waiver, or (2) the requirements of 13 CFR 301.4(b) are satisfied.

D. Each award includes a requirement that the applicant submit an electronic version and 500 hard copies of the final report in formats acceptable to EDA.

E. Notwithstanding any other provision of law, no person is required to respond to, nor shall a person be subject to a penalty for failure to comply with a collection of information subject to the requirements of the Paperwork Reduction Act (PRA) unless that collection of information displays a currently valid Office of Management and Budget (OMB) control number. This notice involves a collection of information requirement subject to the provisions of the PRA and has been approved by OMB under Control Number 0610-0094. The EDA application (ED-900A), which incorporates the SF-424, are the forms in the EDA application kit, approved under the aforementioned OMB control number.

F. If an application is selected for funding, EDA has no obligation to provide any additional future funding in connection with an award. Renewal of an award to increase funding or extend the period of performance is at the sole discretion of EDA.

G. EDA is committed to a policy of non-discrimination in the administration of all its programs.

H. EDA will notify unsuccessful proposers in writing and unsuccessful proposals will be maintained for not more than three years from the date of receipt.

I. This Notice has been determined to be “not significant” for purposes of Executive Order 12866.

J. It has been determined that this notice does not contain policies with Federalism implications as that term is defined in Executive Order 13132.

K. Because notice and comment are not required under 5 U.S.C. 553, or any other law, for this notice relating to public property, loans, grants benefits or contracts (5 U.S.C. 553(a)), a Regulatory Flexibility Analysis is not required and has not been prepared for this notice, 5 U.S.C. 601 et seq.

L. See EDA's Notice of Funding Availability for FY 2002 (67 FR 9544, ­3/1/2002) for additional information and requirements (available on the Internet at http://www.doc.gov/eda, under the heading “Notice of Funding Availability.”

Dated: May 15, 2002.
Mary C. Pleffner,
Acting Assistant Secretary for Economic Development.

[FR Doc. 02-12607 Filed 5-17-02; 8:45 am]

BILLING CODE 3510-24-P